DEPARTMENT OF JUSTICE

Bureau of Alcohol, Tobacco, Firearms and Explosives

[OMB Number 1140-0054]

Agency Information Collection Activities

ACTION: Notice: Commerce in Firearms and Ammunition—Annual Inventory of Firearms: Withdrawal.

The Department of Justice, Bureau of Alcohol, Tobacco, Firearms and Explosives (ATF) is announcing that it has withdrawn the notice published in the Federal Register (November 9, 2006, Vol. 71, No. 217, page 65838) that solicited comments from the public and affected agencies for ATF's proposed information collection. The reason for the withdrawal is because the notice was published in error.

If additional information is required contact: Lynn Bryant, Department Clearance Officer, Policy and Planning Staff, Justice Management Division, Department of Justice, Patrick Henry Building, Suite 1600, 601 D Street, NW., Washington, DC 20530.

Dated: November 30, 2006.
Lynn Bryant,
Department Clearance Officer, Department of Justice.

[FR Doc. E6-20580 Filed 12-4-06; 8:45 am]

BILLING CODE 4410-FY-P